DEPARTMENT OF COMMERCE

International Trade Administration

[A-201-817]

Notice of Final Results and Partial Rescission of Antidumping Duty Administrative Review: Certain Oil Country Tubular Goods from Mexico

AGENCY: Import Administration, International Trade Administration, Department of Commerce.

SUMMARY: On May 10, 2005, the U.S. Department of Commerce (the Department) published the preliminary results of the administrative review of the antidumping order covering certain oil country tubular goods from Mexico. See Certain Oil Country Tubular Goods from Mexico; Preliminary Results of Antidumping Duty Administrative Review and Partial Rescission, 70 FR 24517 (May 10, 2005) (Preliminary Results). The review covers producers Hylsa, S.A. de C.V. (Hylsa) and Tubos de Acero de Mexico, S.A. (Tamsa). The period of review (POR) is August 1, 2003, through July 31, 2004. We invited parties to comment on our Preliminary Results. Based on our analysis of comments received, we have made changes in the margin calculation. Therefore, the final results differ from the preliminary results. The final results are listed below in the “Final Results of Review” section.

EFFECTIVE DATE: October 18, 2005.

FOR FURTHER INFORMATION CONTACT: Stephen Bailey and Abdelali Elouaradia at (202) 482-0193 and (202) 482-1374, respectively, AD/CVD Operations, Office 7, Import Administration, International Trade Administration, U.S. Department of Commerce, 14th Street and Constitution Avenue, NW., Washington, DC 20230.

SUPPLEMENTARY INFORMATION:

Background

On May 10, 2005, we published in the Federal Register the preliminary results of this antidumping review. See Preliminary Results.

In response to our Preliminary Results, on June 9, 2005, we received case briefs from Hylsa and United States Steel Corporation (petitioner). Both parties submitted rebuttal briefs on June 17, 2005. IPSCO Tubulars, Inc., Lone Star Steel Company and Maverick Tube Corporation (domestic interested parties) also issued rebuttal briefs on June 14, 2005. Both Hylsa and petitioner requested a public hearing, which took place on July 12, 2005.

Because it was not practicable to complete the final results of this review within the original time period, the Department extended of the time limit for completion of the final results of this administrative review in accordance with section 751(a)(3)(A) of the Tariff Act of 1930, as amended (the Act). See Oil Country Tubular Goods from Mexico: Extension of Time Limit for the Final Results of the Antidumping Duty Administrative Review, 70 FR 48102 (August 16, 2005).

Partial Rescission

In our preliminary results, we announced our preliminary decision to rescind the review with respect to Tamsa because Tamsa had no entries of oil country tubular goods from Mexico during the POR. See Preliminary Results. We have received no new information contradicting the decision. Therefore, we are rescinding the administrative review with respect to Tamsa.

Scope of the Order

The merchandise covered by this order are oil country tubular goods (OCTG), hollow steel products of circular cross-section, including oil well casing and tubing of iron (other than cast iron) or steel (both carbon and alloy), whether seamless or welded, whether or not conforming to American Petroleum Institute (API) or non-API specifications, whether finished or unfinished (including green tubes and limited-service OCTG products). This scope does not cover casing or tubing pipe containing 10.5 percent or more of chromium, or drill pipe. The OCTG subject to this order are currently classified in the HTSUS under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The Department has determined that couplings, and coupling stock, are not within the scope of the antidumping order on OCTG from Mexico. See Letter to Interested Parties; Final Affirmative Scope Decision, August 27, 1998. The HTSUS subheadings are provided for convenience and customs purposes. Our written description of the scope of this order is dispositive.

Analysis of Comments Received

All issues raised in case and rebuttal briefs submitted by parties to this administrative review are addressed in the “Issues and Decision Memorandum” (Decision Memo) from Barbara E. Tillman, Acting Deputy Assistant Secretary for Import Administration to Joseph A. Spetrini, Acting Assistant Secretary for Import Administration, dated October 7, 2005, which is hereby adopted by this notice. A list of the issues which parties have raised and to which we have responded, all of which are in the Decision Memo, is attached to this notice as an appendix. Parties can find a complete discussion of all issues raised in this review and the corresponding recommendations in this public memorandum which is on file in room B-099 of the main Department building. In addition, a complete version of the Decision Memorandum can be accessed directly on the Internet at http://www.ia.ita.doc.gov. The paper copy and electronic version of the Decision Memo are identical in content.

Change Since the Preliminary Results

Based on our analysis of comments received, we have made the following changes for the final results:

1. For the final results, we used entry date to define those sales used in our analysis.

2. For the calculation of constructed value profit, we have taken into account amounts incurred for certain general and administrative and interest expenses.

3. For the calculation of constructed value profit, we have applied the profit ratio to the cost of manufacturing.

Final Results of Review

As a result of our review, we determine that the following weighted-average dumping margin exists for the POR:

Manufacturer/Exporter | Weighted-Average Margin (percent)
Hylsa, S.A. de C.V. | 1.48

Assessment Rates

Pursuant to 19 CFR 351.212(b), the Department calculates an assessment rate for each importer of the subject merchandise. Upon issuance of the final results of this review, if any importer-specific assessment rates calculated in the final results are above de minimis (i.e., at or above 0.50 percent), the Department will issue assessment instructions directly to the U.S. Customs and Border Protection (CBP) to assess antidumping duties on appropriate entries by applying the assessment rate to the entered value of the merchandise. As the merchandise subject to this order is exported from Mexico, pursuant to 19 CFR 356.8, the Department will issue appropriate assessment instructions directly to CBP on or after the 41st day after publication of these final results of review. We will direct CBP to assess the appropriate assessment rate against the entered CBP values for the subject merchandise on each of the importer's entries under the relevant order during the POR.

Cash Deposit Requirements

The following deposit requirements will be effective upon publication of this notice of final results of administrative review for all shipments of OCTG from Mexico entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 23.79 percent. This rate is the “All Others” rate from the LTFV investigation. See Antidumping Duty Order: Oil Country Tubular Goods From Mexico, 60 FR 41056 (August 11, 1995). These deposit requirements shall remain in effect until publication of the final results of the next administrative review.

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation which is subject to sanction.

These final results are issued and published in accordance with sections 751(a)(1) and 777(i)(1) of the Act.

Dated: October 6, 2005.
Joseph A. Spetrini,
Acting Assistant Secretary for Import Administration.

Appendix

List of Issues

1. Entry Date

2. Constructed Value Profit

3. Limited-Service and Regular-Grade OCTG

4. Offsetting for Export Sales that Exceed Normal Value

[FR Doc. E5-5737 Filed 10-17-05; 8:45 am]

BILLING CODE 3510-DS-S